DEPARTMENT OF THE INTERIOR

Bureau of Land Management

[LLORW00000 L16100000.DO0000; HAG10-0117]

Notice of Intent To Prepare a Resource Management Plan for the Eastern Washington and San Juan Planning Area in the State of Washington and Associated Environmental Impact Statement

AGENCY: Bureau of Land Management, Interior.

ACTION: Notice of Intent.

SUMMARY: In compliance with the National Environmental Policy Act of 1969, as amended, and the Federal Land Policy and Management Act of 1976, as amended, the Bureau of Land Management (BLM) Spokane District, Spokane Valley, Washington, intends to prepare a Resource Management Plan (RMP) with an associated Environmental Impact Statement (EIS) for the Eastern Washington and San Juan Planning Area and by this notice is announcing the beginning of the scoping process to solicit public comments and identify issues. The RMP will replace the existing Spokane RMP and expand the planning area to include the San Juan Islands, which do not have an RMP in place.

DATES: This notice initiates the public scoping process for the RMP with associated EIS. Comments on issues may be submitted in writing until June 25, 2010. The date(s) and location(s) of any scoping meetings will be announced at least 15 days in advance through local media and the BLM Web site at: http://www.blm.gov/or/districts/spokane/plans/ewsjrmp. In order to be included in the Draft RMP/EIS, all comments must be received prior to the close of the scoping period or 30 days after the last public meeting, whichever is later. We will provide additional opportunities for public participation upon publication of the Draft RMP/EIS.

ADDRESSES: You may submit comments on issues and planning criteria related to the Eastern Washington and San Juan RMP/EIS by any of the following methods:

• Web site: http://www.blm.gov/or/districts/spokane/plans/ewsjrmp.

• E-mail: OR_Spokane_RMP@blm.gov.

• Mail: BLM Spokane District, ATTN: RMP, 1103 N. Fancher Rd., Spokane Valley, WA 99212.

Documents pertinent to this proposal may be examined at the Spokane District Office.

FOR FURTHER INFORMATION CONTACT: For further information and/or to have your name added to our mailing list, contact Scott Pavey; Planning and Environmental Coordinator; telephone (509) 536-1252; address BLM Spokane District, ATTN: RMP, 1103 N. Fancher Rd., Spokane Valley, WA 99212; e-mail OR_Spokane_RMP@blm.gov.

SUPPLEMENTARY INFORMATION: This document provides notice that the BLM Spokane District Office, Spokane Valley, Washington, intends to prepare an RMP with an associated EIS for the Eastern Washington and San Juan Planning Area, announces the beginning of the scoping process, and seeks public input on issues and planning criteria. The planning area is located in Adams, Asotin, Benton, Chelan, Columbia, Douglas, Ferry, Franklin, Garfield, Grant, Kittitas, Klickitat, Lincoln, Okanogan, Pend Oreille, San Juan, Skagit, Spokane, Stevens, Walla Walla, Whatcom, Whitman, and Yakima Counties in Washington and encompasses approximately 445,000 acres of public land. The purpose of the public scoping process is to determine relevant issues that will influence the scope of the environmental analysis, including alternatives, and guide the planning process. Preliminary issues for the planning area have been identified by BLM personnel; Federal, State, and local agencies; and other stakeholders. The issues include:

1. How will the shrub-steppe, and its associated riparian and wetland habitats, be managed to maintain, improve, or restore healthy plant and wildlife communities?

2. How should the BLM manage public lands with consideration of uses of adjacent lands, given the mixed ownership pattern in the planning area?

3. How should the BLM manage multiple uses and resources that have changed or that occur on lands that were either not administered by the BLM or were not within the planning area when the current RMP was developed? and

4. How should the BLM facilitate energy development while allowing for multiple uses and appropriate protection of public lands and resources?

Preliminary planning criteria include:

1. The BLM will protect resources in accordance with the Federal Land Policy and Management Act of 1976, as amended (43 U.S.C. 1701 et seq.), and other applicable laws and regulations;

2. The BLM will strive to make land use plan decisions compatible with existing plans and policies of adjacent local, State, Federal, and tribal agencies, and consistent with other applicable laws and regulations governing the administration of public land;

3. The plan will recognize valid existing rights within the Planning Area;

4. Land use plan decisions will apply to BLM lands and split-estate minerals administered by the BLM;

5. The BLM will use a collaborative and multi-jurisdictional approach, when practical, to jointly determine the desired future conditions of public lands;

6. The plan will recognize the state's authority to manage wildlife; and

7. The plan will incorporate the BLM Oregon and Washington Rangeland Health Standards and Guidelines.

You may submit comments on issues and planning criteria in writing to the BLM at any public scoping meeting, or you may submit them to the BLM using one of the methods listed in the ADDRESSES section above. To be most helpful, you should submit comments within 30 days after the last public meeting. Before including your address, phone number, e-mail address, or other personal identifying information in your comment, you should be aware that your entire comment—including your personal identifying information—may be made publicly available at any time. While you can ask the BLM in your comment to withhold your personal identifying information from public review, we cannot guarantee that we will be able to do so. The minutes and list of attendees for each scoping meeting will be available to the public and open for 30 days after the meeting to any participant who wishes to clarify the views he or she expressed. The BLM will evaluate identified issues to be addressed in the plan and will place them into one of three categories:

1. Issues to be resolved in the plan;

2. Issues to be resolved through policy or administrative action; or

3. Issues beyond the scope of this plan.

The BLM will provide an explanation in the Draft RMP/EIS as to why an issue was placed in category 2 or 3. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Wildlife, Threatened and Endangered Species, Vegetation and Native Plants, Riparian and Wetlands, Invasive and Noxious Weeds, Rangeland Management, Forest Management, Fire and Fuels Management, Cultural Resources and Native American Concerns, Geology and Minerals, Lands and Realty, Recreation, Visual Resource Management, Wilderness, Wild and Scenic Rivers, sociology, and economics.

Edward W. Shepard,
State Director, Oregon/Washington.

Authority: 40 CFR 1501.7, 43 CFR 1610.2.

[FR Doc. 2010-9991 Filed 4-29-10; 8:45 am]

BILLING CODE 4310-33-P